DEPARTMENT OF COMMERCE

National Oceanic and Atmospheric Administration

[I.D. 031903A]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Joint Enforcement Oversight Committee and Advisory Panel and its Groundfish Oversight Committee in April, 2003 to consider actions affecting New England fisheries in the exclusive economic zone (EEZ). Recommendations from these groups will be brought to the full Council for formal consideration and action, if appropriate.

DATES: The meetings will be held on April 7 and 8, 2003. See SUPPLEMENTARY INFORMATION for specific dates and times.

ADDRESSES: The meetings will be held in Newburyport and Wakefield, MA. See SUPPLEMENTARY INFORMATION for specific locations.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Meeting Dates and Agendas

Monday, April 7, 2003 at 9:30 a.m. - Joint Enforcement Committee and Advisory Panel Meeting.

Location: New England Fishery Management Council Office, 50 Water Street, Mill #2, Newburyport, MA 01950; telephone: (978) 465-0492.

The committee and advisory panel will discuss and review the Monkfish enforcement analysis. They will also discuss and review the Habitat enforcement analyses for Amendment 10 to the Scallop Fishery Management Plans (FMP) and Groundfish Amendment 13 FMP. They also plan to discuss and recommend Vessel Monitoring System (VMS) requirements in the U.S./Canada agreement area. The U.S.Coast Guard is concerned if there are (1) vessels required to have VMS, and (2) vessels in the area that just sign-in for a fixed period, at the same time. Given time they will review other business.

Tuesday, April 8, 2003 at 9:30 a.m. - Groundfish Oversight Committee Meeting.

Location: Sheraton Colonial, One Audubon Road, Wakefield, MA 01880; telephone: (781) 245-9300.

The committee will meet to continue development of Amendment 13 to the Northeast Multispecies (FMP). They will provide additional advice and guidance in order to clarify the management measures that have been identified for the Amendment. They will also refine the measures for administering a hard Total Allowable Catch (TAC), will consider and act on advice from the NMFS on improvements to other measures, and will develop recommendations to improve the administration of an alternative to use fishing years 1996 through 2001 as the baseline period for establishing effective days-at-sea for limited access permits. The Committee will receive a report on measures to implement a U.S./Canada resource sharing understanding and may develop additional recommendations for the Council's consideration. Also on the agenda is the review analysis of rebuilding periods and reference points provided by the Plan Development Team.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: March 19, 2003.
Matteo J. Milazzo,
Acting Director, Office of Sustainable Fisheries, National Marine Fisheries Service.

[FR Doc. 03-6959 Filed 3-21-03; 8:45 am]

BILLING CODE 3510-22-S